DEPARTMENT OF EDUCATION

[CFDA No. 84.170]

Office of Postsecondary Education, Jacob K. Javits Fellowship Program; Notice Inviting Applications for New Awards for Fiscal Year (FY) 2001

Purpose of Program: The purpose of the Jacob K. Javits Fellowship (JKJ) Program is to award fellowships to eligible students of superior ability, selected on the basis of demonstrated achievement, financial need, and exceptional promise to undertake graduate study leading to a doctoral degree or a Master of Fine Arts (MFA) at accredited institutions of higher education in selected fields of the arts, humanities, or social sciences.

Eligible Applicants: Individuals who at the time of application have not yet completed their first full year of graduate study or will be entering graduate school in academic year 2001-2002, and who are eligible to receive any grant, loan, or work assistance pursuant to section 484 of the Higher Education Act, as amended, and intend to pursue a doctoral degree or MFA in fields selected by the JKJ Board at accredited U.S. institutions of higher education. Individuals must be U.S. citizens or nationals, permanent residents of the U.S., or citizens of any one of the Freely Associated States.

Deadline for Transmittal of Applications: November 17, 2000.

Applications Available: September 29, 2000.

Available Funds: $1,179,330. The estimated amount of funds available under this competition is based on the Administration's request for this program for FY 2001. The actual level of funding, if any, is contingent on final congressional action.

Estimated Average Size of Awards: $27,200.

Estimated Number of Awards: 42 individual fellowships.

Note: The Department is not bound by any estimates in this notice.

Project Period: Up to 48 months.

Applicable Regulations: (a) The Education Department, General Administrative Regulations (EDGAR) in 34 CFR parts 74, 75 (except as provided in 34 CFR 650.3(b)), 77, 82, 85, 86, 97, 98 and 99; and (b) the regulations for this program in 34 CFR part 650.

SUPPLEMENTARY INFORMATION: Stipend Level: The Secretary will determine the JKJ fellowship stipend for the academic year 2001-2002 based on the level of support provided by the National Science Foundation (NSF) graduate fellowships, except that the amount will be adjusted as necessary so as not to exceed the JKJ fellow's demonstrated level of financial need.

Institutional Payment: The Secretary will determine the institutional payment for the academic year 2001-2002 by adjusting the academic year 2000-2001 institutional payment, which is $10,500 per fellow, by the U.S. Department of Labor's Consumer Price Index for the previous year. The institutional payment will be reduced by the amount an institution charges and collects from a fellowship recipient for tuition and fees.

FOR FURTHER INFORMATION CONTACT: Carolyn Proctor, Jacob K. Javits Fellowship Program, U.S. Department of Education, International Education and Graduate Programs Service, 1990 K St., Suite 6000, Washington, DC 20006-8521. Telephone: (202) 502-7542. The e-mail address for the Javits Program is: ope_javits_program@ed.gov

Individuals who use a telecommunications device for the deaf (TDD) may call the Federal Information Relay Service (FIRS) at 1-800-877-8339.

Individuals with disabilities may obtain this document in an alternate format (e.g., Braille, large print, audiotape, or computer diskette) on request to the appropriate contact person listed in the preceding paragraph. However, the Department is not able to reproduce in an alternate format the standard forms included in the application package.

For Applications Contact: Education Publications Center (ED Pubs), P.O. Box 1398, Jessup, MD 20794-1398. Telephone (toll free): 1-877-433-7827. FAX: (301) 470-1244. Individuals who use a telecommunications device for the deaf (TDD) may call (toll free): 1-877-576-7734. You may also contact ED Pubs via its Web site at: http://www.ed.gov/pubs/edpubs.html or at its e-mail address: edpubs@inet.ed.gov.

If you request an application from ED Pubs be sure to identify this competition as follows: CFDA 84.170.

Electronic Access to This Document

You may view this document, as well as all other Department of Education documents published in the Federal Register, in text or Portable Document Format (PDF) on the Internet at either of the following sites:

http://ocfo.ed.gov/fedreg.htm

http://www.ed.gov/news.html

To use the PDF you must have Adobe Acrobat Reader which is available free at either of the previous sites. If you have questions about using the PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 1134-1134d.

Dated: September 5, 2000.
Lee A. Fritschler,
Assistant Secretary, Office of Postsecondary Education.

[FR Doc. 00-23218 Filed 9-8-00; 8:45 am]

BILLING CODE 4000-01-U